DEPARTMENT OF HEALTH AND HUMAN SERVICES

Office of the Secretary

Office of Minority Health; Notice of a Cooperative Agreement With the National Minority AIDS Council

AGENCY: Office of the Secretary, Office of Minority Health, HHS.

ACTION: Notice of a cooperative agreement with the National Minority AIDS Council.

The Office of Minority Health (OMH), Office of Public Health and Science, announces its intent to continue support of the umbrella cooperative agreement with the National Minority AIDS Council (NMAC). This cooperative agreement will continue the broad programmatic framework in which specific projects can be supported by various governmental agencies during the project period.

The purpose of this cooperative agreement is to assist NMAC in expanding and enhancing its activities relevant to HIV prevention, services, treatment, and research in racial and ethnic minority populations, with the ultimate goal of improving the health status of minorities and disadvantaged people.

The OMH will provide technical assistance and oversight as necessary for the implementation, conduct, and assessment of the project activities. On an as-needed basis, OMH will assist in arranging consultation from other government agencies and non-government agencies.

Authority: This cooperative agreement is authorized under Section 1707(e)(1) of the Public Health Service Act, as amended.

Background

Assistance will continue to be provided to NMAC. During the last 3 years, NMAC has successfully demonstrated the ability to work with health agencies on activities relevant to HIV prevention, services, treatment, and research in racial and ethnic minority populations, with the ultimate goal of improving the health status of minorities and disadvantaged people. The NMAC is uniquely qualified to continue to accomplish the purposes of this cooperative agreement because it has the following combination of factors:

• It has developed, expanded, and managed an infrastructure to coordinate and implement various educational programs within local communities and organizations that deal extensively with HIV in each of the four racial and ethnic minority populations served by OMH. The Council established national initiatives, e.g., conferences, public policy education programs (including policy forums), technical assistance programs, and publications (including newsletters, action alerts and training manuals), that provide a foundation upon which to develop, promote, and manage HIV-related education and health related programs aimed at preventing and reducing unnecessary morbidity and mortality rates among racial and ethnic minority populations.

• It has established itself and its members as a national association with professionals who serve as leaders and experts in planning, developing, implementing, promoting, and evaluating HIV-related education and policy campaigns, both nationally and locally, aimed at reducing the impact of HIV in minority communities.

• It has developed a base of critical knowledge, skills, and abilities related to serving minority individuals and organizations with a range of HIV-related health and social problems. Through collective efforts of its members, community-based organizations, and volunteers, NMAC has demonstrated (1) the ability to work with minority and non-minority organizations, the Federal Government, academic institutions, and health groups on mutually beneficial education, research, and health endeavors relating to the goal of health promotion and disease prevention among racial and ethnic minority populations; (2) the national leadership necessary to focus the nation's attention on minority-related HIV issues; and (3) the leadership needed to assist health-care professionals to work more effectively with racial/ethnic minority communities.

• It has developed a national network of individuals; community-based organizations; and state, regional, and national health and civil rights organizations committed to addressing the HIV prevention, service, treatment, and research needs of individuals affected and infected by HIV and AIDS.

This cooperative agreement will be continued for an additional five-year project period with 12-month budget periods. Depending upon the types of projects and availability of funds, it is anticipated that this cooperative agreement will receive approximately $100,000 per year. Continuation awards within the project period will be made on the basis of satisfactory progress and the availability of funds.

Where To Obtain Additional Information

If you are interested in obtaining additional information regarding this cooperative agreement, contact Ms. Cynthia Amis, Office of Minority Health, 5515 Security Lane, Suite 1000, Rockville, Maryland 20852 or telephone (301) 594-0769.

OMB Catalog of Federal Domestic Assistance

The Catalog of Federal Domestic Assistance Number for this cooperative agreement is 93.004.

Dated: March 10, 2000.
Nathan Stinson, Jr.,
Deputy Assistant Secretary for Minority Health.

[FR Doc. 00-6896 Filed 3-20-00; 8:45 am]

BILLING CODE 4160-17-P